DEPARTMENT OF STATE

[Public Notice: 10635]

Secretary of State's Determination Under the International Religious Freedom Act of 1998 and Frank R. Wolf International Religious Freedom Act of 2016

The Secretary of State's designation of “countries of particular concern” and “special watch list” countries for religious freedom violations pursuant to Section 408(a) of the International Religious Freedom Act of 1998 (Pub. L. 105-292), as amended (the Act). Notice is hereby given that, on November 28, 2018, the Secretary of State, under authority delegated by the President, designated each of the following as a “country of particular concern” (CPC) under section 402(b) of the Act, for having engaged in or tolerated particularly severe violations of religious freedom: Burma, China, Eritrea, Iran, the Democratic People's Republic of Korea, Pakistan, Saudi Arabia, Sudan, Tajikistan, Turkmenistan. The Secretary simultaneously designated the following Presidential Actions for these CPCs:

For Burma, the existing ongoing restrictions referenced in 22 CFR 126.1, pursuant to section 402(c)(5) of the Act;

For China, the existing ongoing restriction on exports to China of crime control and detection instruments and equipment, under the Foreign Relations Authorization Act of 1990 and 1991 (Pub. L. 101-246), pursuant to section 402(c)(5) of the Act;

For Eritrea, the existing ongoing restrictions referenced in 22 CFR 126.1, pursuant to section 402(c)(5) of the Act;

For Iran, the existing ongoing travel restrictions in section 221(c) of the Iran Threat Reduction and Syria Human Rights Act of 2012 (TRA) for individuals identified under section 221(a)(1)(C) of the TRA in connection with the commission of serious human rights abuses, pursuant to section 402(c)(5) of the Act;

For the Democratic People's Republic of Korea, the existing ongoing restrictions to which the Democratic People's Republic of Korea is subject, pursuant to sections 402 and 409 of the Trade Act of 1974 (the Jackson-Vanik Amendment), pursuant to section 402(c)(5) of the Act;

For Pakistan, a waiver as required in the “important national interest of the United States,” pursuant to section 407 of the Act;

For Saudi Arabia, a waiver as required in the “important national interest of the United States,” pursuant to section 407 of the Act;

For Sudan, the restriction in the annual Department of State, Foreign Operations, and Related Programs Appropriations Act on making certain appropriated funds available for assistance to the Government of Sudan, currently set forth in section 7042(i) of the Department of State, Foreign Operations, and Related Programs Appropriations Act, 2018 (Div. K, Pub. L. 115-141), and any provision of law that is the same or substantially the same as this provision, pursuant to section 402(c)(5) of the Act;

For Tajikistan, a waiver as required in the “important national interest of the United States,” pursuant to section 407 of the Act;

For Turkmenistan, a waiver as required in the “important national interest of the United States,” pursuant to section 407 of the Act; and

In addition, the Secretary of State has designated the following countries as “special watch list” countries for engaging in or tolerating severe violations of religious freedom: Comoros, Russia, and Uzbekistan.

The Secretary of State's designation of “entities of particular concern” for religious freedom, pursuant to Section 408(a) of the International Religious Freedom Act of 1998 (Pub. L. 105-292). Notice is hereby given that, on November 28, 2018, the Secretary of State, under authority delegated by the President, designated each of the following as an entity of particular concern” under section 301 of the Frank R. Wolf International Religious Freedom Act of 2016 (Pub. L. 114-281), for having engaged in particularly severe violations of religious freedom: al-Nusra Front, al-Qa'ida in the Arabian Peninsula, al-Qa'ida, al-Shabab, Boko Haram, the Houthis, ISIS, ISIS-Khorasan, and the Taliban.

FOR FURTHER INFORMATION CONTACT: Howard Chyung, Office of International Religious Freedom, Bureau of Democracy, Human Rights, and Labor, U.S. Department of State, (Phone: (202) 647-3865 or Email: ChyungHH@state.gov).

Daniel L. Nadel,
Director, Office of International Religious Freedom, Department of State.

[FR Doc. 2018-27632 Filed 12-20-18; 8:45 am]

BILLING CODE 4710-18-P